DEPARTMENT OF HOMELAND SECURITY

Coast Guard

[USCG-2005-20082]

National Offshore Safety Advisory Committee

AGENCY: Coast Guard, DHS.

ACTION: Notice of open teleconference meeting.

SUMMARY: This notice announces a teleconference meeting of the National Offshore Safety Advisory Committee (NOSAC) on the proposed formation of a NOSAC subcommittee. NOSAC will meet to discuss the formation of a subcommittee on the application of the Safety of Life at Sea (SOLAS) Convention to the various types of offshore support vessels working in foreign locations, including offshore supply vessels (OSVs), anchor handling vessels, liftboats, crew boats, dive support vessels, and seismic vessels.

DATES: The teleconference call will take place on Thursday, February 3, 2005, from 10 a.m. to 11 a.m. e.s.t. Written comments may be submitted on or before February 2, 2005.

ADDRESSES: Members of the public may participate by coming to Room 1303, U.S. Coast Guard Headquarters Building, 2100 Second Street, SW., Washington, DC 20593. We request that members of the public who plan to attend this meeting notify Mr. Jim Magill at (202) 267-1082 so that he may notify building security officials. Written comments should be sent to Commander J. M. Cushing, Executive Director of NOSAC, Commandant (G-MSO-2), 2100 Second Street, SW., Washington, DC 20593-0001; or by faxing (202) 267-4570. This notice is available on the Internet at http://dms.dot.gov.

FOR FURTHER INFORMATION CONTACT: Commander John Cushing, Executive Director of NOSAC, or Mr. Jim Magill, Assistant to the Executive Director, telephone (202) 267-1082, fax (202) 267-4570.

SUPPLEMENTARY INFORMATION: Members of the public may participate by dialing (202) 366-3920, Pass code: 9535. Public participation is welcome; however, the number of teleconference lines is limited and available on a first-come, first-served basis. Notice of this meeting is given under the Federal Advisory Committee Act, 5 U.S.C. App. 2.

Agenda

(1) Introduction of Committee members and the public.

(2) Discussion on forming a subcommittee on the application of the SOLAS Convention to the various types of offshore support vessels working in foreign locations.

(3) Committee vote on the formation of a subcommittee.

(4) Committee nominations and vote on subcommittee chairman.

The Chairman of NOSAC shall conduct the teleconference in a way that will, in his judgment, facilitate the orderly conduct of business. During the teleconference, the Committee welcomes public comment. The committee will make every effort to hear the views of all interested parties. Please note that the teleconference may close early if all business is finished. Written comments may be submitted on or before the day of the teleconference (see ADDRESSES).

Minutes

The teleconference will be recorded, and a summary will be available for the public review and copying 30 days following the teleconference meeting.

Information on Services for Individuals With Disabilities

For information on facilities or services for individuals with disabilities or to request special assistance at the meeting, contact Mr. Jim Magill at (202) 267-1082 as soon as possible.

Dated: January 12, 2005.
Howard L. Hime,
Acting Director of Standards, Marine Safety, Security and Environmental Protection.

[FR Doc. 05-1151 Filed 1-18-05; 8:45 am]

BILLING CODE 4910-15-P